NUCLEAR REGULATORY COMMISSION

[NRC-2012-0072]

Quality Verification for Plate-Type Uranium-Aluminum Fuel Elements for Use in Research and Test Reactors

AGENCY: Nuclear Regulatory Commission.

ACTION: Regulatory guide; issuance.

SUMMARY: The U.S. Nuclear Regulatory Commission (NRC) is issuing a revision to Regulatory Guide (RG) 2.3, “Quality Verification for Plate-Type Uranium-Aluminum Fuel Elements for Use in Research and Test Reactors.” This guide describes a method that the staff of the NRC considers acceptable for complying with the Commission's regulations concerning establishing and executing a quality assurance program for verifying the quality of plate-type uranium-aluminum fuel elements used in research and test reactors (RTRs).

ADDRESSES: Please refer to Docket ID NRC-2012-0072 when contacting the NRC about the availability of information regarding this document. You may access information related to this document, which the NRC possesses and is publicly available, using any of the following methods:

• Federal Rulemaking Web site: Go to http://www.regulations.gov and search for Docket ID NRC-2012-0072. Address questions about NRC dockets to Carol Gallagher; telephone: 301-492-3668; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. Revision 2 of Regulatory Guide 2.3 is available in ADAMS under Accession No. ML12160A492. The regulatory analysis may be found in ADAMS under Accession No. ML12160A494.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Harriet Karagiannis, Office of Nuclear Regulatory Research, U.S. Nuclear Regulatory Commission, Washington, DC 20555-0001; telephone: 301-251-7477; email: Harriet.Karagiannis@nrc.gov, or Geoffrey Wertz, Office of Nuclear Reactor Regulation, U.S. Nuclear Regulatory Commission, Washington, DC 20555-0001; telephone: 301-415-0893; email: Geoffrey.Wertz@nrc.gov,

SUPPLEMENTARY INFORMATION:

I. Introduction

The NRC is issuing a revision to an existing guide in the NRC's “Regulatory Guide” series. This series was developed to describe and make available to the public information such as methods that are acceptable to the NRC staff for implementing specific parts of the agency's regulations, techniques that the staff uses in evaluating specific problems or postulated accidents, and data that the staff needs in its review of applications for permits and licenses.

Revision 2 of RG 2.3 was issued with a temporary identification as Draft Regulatory Guide, DG-2005. This guide describes a method that the staff of the NRC considers acceptable for complying with the Commission's regulations concerning establishing and executing a quality assurance program for verifying the quality of plate-type uranium-aluminum fuel elements used in RTRs. This guide describes methods that the NRC's staff considers acceptable to implement Section 50.34(a)(7) of Title 10 of the Code of Federal Regulations (10 CFR), which requires each applicant for a construction permit to build a production or utilization facility to describe in its preliminary safety analysis report the quality assurance program that will be applied to the design, fabrication, construction, and testing of the facility's structures, systems, and components.

II. Additional Information

The NRC published DG-2005 in the Federal Register on March 22, 2012 (77 FR 16868) for a 60-day public comment period. The public comment period closed on May 21, 2012. Public comments on DG-2005 and the NRC staff responses to the public comments are available in ADAMS under Accession No. ML12160A496.

III. Congressional Review Act

This regulatory guide is a rule as designated in the Congressional Review Act (5 U.S.C. 801-808). However, the Office of Management and Budget has not found it to be a major rule as designated in the Congressional Review Act.

IV. Backfitting and Issue Finality

The NRC's backfit provisions are found in its regulations at 10 CFR 50.109, 70.76, 72.62, and 76.76, and its issue finality provisions are located in 10 CFR part 52. Under Section 50.2, non-power reactors are research or test reactors licensed in accordance with Sections 103 or 104.c of the AEA and 10 CFR 50.21(c) or 50.22 for research and development. Accordingly, the backfit provisions of Part 50 would be the only backfit provisions potentially implicated by the issuance of this regulatory guide. The NRC has determined that the backfit provisions in Section 50.109 do not apply to test, research, or training reactors because the rulemaking record for Section 50.109 indicates that the Commission intended to apply this provision to only power reactors, and NRC practice has been consistent with this rulemaking record. The Part 52 issue finality provisions do not apply to test, research, or training reactors because these reactors are not licensed under Part 52. Therefore, no backfit determination need be made regarding the issuance of this regulatory guide.

Dated at Rockville, Maryland, this 23rd day of May, 2013.
For the Nuclear Regulatory Commission.
Thomas H. Boyce,
Chief, Regulatory Guide Development Branch, Division of Engineering, Office of Nuclear Regulatory Research.

[FR Doc. 2013-13090 Filed 5-31-13; 8:45 am]

BILLING CODE 7590-01-P